DEPARTMENT OF THE TREASURY

Public Meeting of the President's Advisory Panel on Federal Tax Reform

AGENCY: Department of the Treasury.

ACTION: Notice of meeting.

SUMMARY: This notice advises all interested persons of the location of the May 11-12, 2005, public meeting of the President's Advisory Panel on Federal Tax Reform. This meeting was previously announced in 70 FR 21493 (April 26, 2005).

DATES: The meeting will be held on Wednesday, May 11, 2005, and Thursday, May 12, 2005. The meeting will begin at 9:30 a.m. on both days.

ADDRESSES: The meeting will be held at the National Transportation Safety Board Conference Center Auditorium, 429 L'Enfant Plaza, SW., Washington, DC 20594. Seating will be available to the public on a first-come, first-served basis.

FOR FURTHER INFORMATION CONTACT: The Panel staff at (202) 927-2TAX (927-2829) (not a toll-free call) or e-mail info@taxreformpanel.gov (please do not send comments to this box). Additional information is available at http://www.taxreformpanel.gov.

Dated: April 28, 2005.
Mark S. Kaizen,
Designated Federal Officer.

[FR Doc. 05-8770 Filed 4-29-05; 8:45 am]

BILLING CODE 4810-25-P